SECURITIES AND EXCHANGE COMMISSION

[Release No. 95496]

Notice of Intention To Cancel Registration of Certain Municipal Advisors

August 12, 2022.

Notice is given that the Securities and Exchange Commission (the “Commission”) intends to issue an order or orders, pursuant to Section 15B(c)(3) of the Securities Exchange Act of 1934 (the “Act”), cancelling the registrations of the municipal advisors whose names appear in the attached Appendix (hereinafter referred to as the “registrants”).

Section 15B(c)(3) of the Act provides, in pertinent part, that if the Commission finds that any municipal advisor registered under Section 15B is no longer in existence or has ceased to do business as a municipal advisor, the Commission, by order, shall cancel the registration of such municipal advisor.

The Commission finds that each registrant listed in the attached Appendix:

(i) has not filed any municipal advisor form submissions with the Commission through the Commission's Electronic Data Gathering and Retrieval (“EDGAR”) system since January 1, 2020 (including but not limited to the annual amendments (form MA-A) required by 17 CFR 240.15Ba1-5(a)(1)); and

(ii) based on information available from the Municipal Securities Rulemaking Board (the “MSRB”), (a) is not registered as a municipal advisor with the MSRB under MSRB Rule A-12(a) and/or (b) does not have an associated person who is qualified as a municipal advisor representative under MSRB Rule G-3(d) and for whom there is a Form MA-I required by 17 CFR 240.15Ba1-2(b) available on EDGAR, and/or (c) has not, since January 1, 2020, filed with the MSRB any Form A-12 annual affirmation as required by MSRB Rule A-12(k).

Accordingly, the Commission finds that each of the registrants listed in the attached Appendix either is no longer in existence or has ceased to do business as a municipal advisor.

Notice is also given that any interested person may, by September 12, 2022, at 5:30 p.m. Eastern Time, submit to the Commission in writing a request for a hearing on the cancellation of the registration of any registrant listed in the attached Appendix, accompanied by a statement as to the nature of such person's interest, the reason for such request, and the issues, if any, of fact or law proposed to be controverted, and such person may request to be notified if the Commission should order a hearing thereon. Any such communication should be addressed to the Commission's Secretary at the address below.

At any time after September 12, 2022, the Commission may issue an order or orders cancelling the registrations of any or all of the registrants listed in the attached Appendix, upon the basis of the information stated above, unless an order or orders for a hearing on the cancellation shall be issued upon request or upon the Commission's own motion. Persons who requested a hearing, or to be advised as to whether a hearing is ordered, will receive any notices and orders issued in this matter, including the date of the hearing (if ordered) and any postponements thereof. Any registrant whose registration is cancelled under delegated authority may appeal that decision directly to the Commission in accordance with Rules 430 and 431 of the Commission's rules of practice (17 CFR 201.430 and 431).

ADDRESSES: Secretary, U.S. Securities and Exchange Commission, 100 F Street NE, Washington, DC 20549.

FOR FURTHER INFORMATION CONTACT: Mark Elion, Attorney Advisor, Office of Municipal Securities, 100 F Street NE, Washington, DC 20549, or at (202) 551-5680.

For the Commission, by the Office of Municipal Securities, pursuant to delegated authority.¹
¹ 17 CFR 200.30-3a(a)(1)(ii).
J. Matthew DeLesDernier,
Deputy Secretary.

Appendix

Registrant name | SEC ID No.
Elzey Consulting Group, LLC | 867-02230
Hampel Charles Edward | 867-01267
Harris Housing Advisors LLC | 867-00840
IFS Advisory, LLC | 867-02354
Piedmont Securities LLC | 867-00767
Pinnacle Financial Group LLC | 867-01379
Powell Capital Markets, Inc | 867-01363
Public Advisory Consultants, Inc | 867-00109
Rydle Project Funding | 867-01908
Torain Group | 867-02137

[FR Doc. 2022-17747 Filed 8-17-22; 8:45 am]

BILLING CODE 8011-01-P